DEPARTMENT OF ENERGY

Federal Energy Regulatory Commission

[Project No. 2232-457]

Duke Power Company; Notice of Availability of Environmental Assessment

March 23, 2004.

In accordance with the National Environmental Policy Act of 1969, as amended, and the Federal Energy Regulatory Commission's (Commission) regulations (19 CFR Part 380), Commission staff have prepared an environmental assessment (EA) that analyzes the environmental impacts of allowing Duke Power Company, licensee for the Catawba-Wateree Hydroelectric Project, to grant an updated Water Withdrawal Easement to the City of Mount Holly, North Carolina for project property within Mountain Island Lake that will supercede an existing easement. The updated easement will allow Mount Holly to install and maintain new intake screens on existing water intake pipes at its Raw Water Intake Pumping Station at Mountain Island Lake, and allow Mount Holly to increase water withdrawals from the currently-permitted rate of 3.0 million gallons per day (MGD) to maximum of 13.5 MGD. Increases in water withdrawal would occur incrementally over time. The EA contains staff's analysis of the potential environmental impacts of the proposal and concludes that approval of the Proposed Action would not constitute a major Federal action significantly affecting the quality of the human environment.

A copy of the EA is attached to a Commission order titled “Order Approving Non-Project Use of Project Lands and Waters,” which was issued March 23, 2004, and is available for review and reproduction at the Commission' Public Reference Room, located at 888 First Street, NE., Room 2A, Washington, DC 20426. The EA may also be viewed on the Commission's Web site at http://www.ferc.gov using the “eLibrary” link. Enter the docket number (prefaced by P-) and excluding the last thee digits, in the docket number field to access the document. For assistance, contact FERC Online Support at FERCOnlineSupport@ferc.gov or toll-free at (866) 208-3676, or for TTY, contact (202) 502-8659.

Magalie R. Salas,
Secretary.

[FR Doc. E4-733 Filed 3-31-04; 8:45 am]

BILLING CODE 6717-01-P